DEPARTMENT OF COMMERCE

National Oceanic and Atmospheric Administration

Notice To Suspend Applications for Certification for Printing NOAA Nautical Charts and Publications

AGENCY: National Ocean Service, National Oceanic and Atmospheric Administration (NOAA), Department of Commerce (DOC).

ACTION: Notice to suspend accepting new applications for certification for printing and distribution of NOAA nautical charts and the United States Coast Pilot, and to update the public on digital distribution of NOAA's products.

SUMMARY: The federal government ceased printing of paper nautical charts in April 2014. Since then, the Office of Coast Survey has successfully transitioned the printing of paper nautical charts to the private sector and, since the Federal Register Notice of January 2, 2014, has certified more than three dozen companies to print and sell NOAA nautical charts and the United States Coast Pilot®. This transition has resulted in a broad market providing product differentiation with optional value-added features. However, Coast Survey is in the process of reducing the amount of traditional NOAA paper nautical products that it maintains as it moves to facilitating a method from which paper charts can be derived from the NOAA's electronic navigational charts (NOAA ENC®) found on website: https://nauticalcharts.noaa.gov/charts/noaa-enc.html. Within the next five years, the number of unique charts that will be available for vendors to print will be reduced by roughly 60%. Coast Survey recognized that a hold on accepting new applications must be put in place until the final number of traditional paper charts that NOAA will maintain is determined. The plan for transitioning away from the traditional NOAA paper charts is available in the “Sunsetting Traditional NOAA Paper Charts” document found on the following website: https://nauticalcharts.noaa.gov/publications/docs/raster-sunset.pdf.

To maintain a healthy market that meets the needs of recreational and commercial mariners, Coast Survey is suspending the certifications for new, non-certified printers of charts while continuing to maintain certification of printers who continue to meet standards as provided under their current agreements. There are currently eight certified printers of the Coast Pilot. Coast Survey feels the market can bear no more that 10 of these printers. Once there are 10 certified printers of the Coast Pilot, Coast Survey will suspend the certifications for new, non-certified printers of the Coast Pilot.

DATES: Send comments on or before February 9, 2021.

ADDRESSES: Comments can be submitted online to the Office of Coast Survey's inquiry system, ASSIST, at the following site https://www.nauticalcharts.noaa.gov/customer-service/assist/.

FOR FURTHER INFORMATION CONTACT: Matthew Kroll, Deputy Chief, Navigation Services Division, NOAA's Office of Coast Survey at matt.kroll@noaa.gov, 240-533-0063

SUPPLEMENTARY INFORMATION: NOAA privatized the printing of nautical charts in October 2013. In January 2014, Coast Survey started soliciting private companies to apply for NOAA certification to print, sell, and distribute paper nautical charts that NOAA's National Ocean Service considered “published”, and that therefore meet carriage requirements. After review, Coast Survey certifies applicants who meet all NOAA chart standards.

At the time of Coast Survey's January 2014 solicitation, NOAA had two certified printing agents. As of October 29, 2020, NOAA had 36 certified agents found here, https://nauticalcharts.noaa.gov/publications/print-agents.html#paper-charts, with two additional companies under review.

Coast Survey has concluded that the current certified printers are meeting market needs, and that the companies with pending applications for certification will adequately fill any additional market openings. Therefore, until further notice, Coast Survey will not accept any new applications for certification, except for printers of the Coast Pilot until 10 Coast Pilot printers has been achieved.

Coast Survey began the transition away from traditional paper products and considers the NOAA ENC as its primary product to meet navigation needs, and makes the following resources available:

1. NOAA's electronic navigational charts (NOAA ENC®) (https://nauticalcharts.noaa.gov/charts/noaa-enc.html) are available for free download.

2. See Coast Survey's plan to improve the ENC, “Transforming the NOAA ENC.” (https://nauticalcharts.noaa.gov/publications/docs/enc-transformation.pdf).

3. United States Coast Pilot (https://nauticalcharts.noaa.gov/publications/coast-pilot/index.html) is available online in a digital format.

4. NOAA's Custom Chart tool (https://devgis.charttools.noaa.gov/pod/) gives the user the ability to create and download charts based on your own scale, extent, and paper size settings.

The National Charting Plan outlines several improvements to chart content (https://nauticalcharts.noaa.gov/charts/docs/NCP-1-pager-v2.pdf).

Authority: 33 U.S.C. Chapter 17, Coast and Geodetic Survey Act of 1947.

Shepard M. Smith,
Director, Office of Coast Survey, National Ocean Service, National Oceanic and Atmospheric Administration.

[FR Doc. 2020-27344 Filed 12-10-20; 8:45 am]

BILLING CODE 3510-JE-P